DEPARTMENT OF TRANSPORTATION

Federal Aviation Administration

14 CFR Part 73

[Docket No. FAA-2016-7055; Airspace Docket No. 15-AWP-11]

Establishment of Restricted Area R-2306F; Yuma Proving Ground, AZ

Correction

In Rule document 2017-20590, appearing on pages 44721-44723 in the issue of Tuesday, September 26, 2017, make the following correction:

§ 73.23 [Corrected]

1. On page 44723, column one, line 7, the longitude coordinate “114°26′3″ W.” should read “114°26′33″ W.”

2. On page 44723, column one, line 11, the longitude coordinate “114°26′9″ W.” should read “114°26′29″ W.”

[FR Doc. C1-2017-20590 Filed 9-29-17; 8:45 am]

BILLING CODE 1301-00-D